DEPARTMENT OF THE INTERIOR

Minerals Management Service

[Docket No. MMS-2007-OMM-0078]

MMS Information Collection Activity: 1010-0041 (30 CFR 250, Subpart K) Oil and Gas Production Rates, Extension of a Collection; Comment Request

AGENCY: Minerals Management Service (MMS), Interior.

ACTION: Notice of extension of an information collection (1010-0041).

SUMMARY: To comply with the Paperwork Reduction Act of 1995 (PRA), MMS is inviting comments on a collection of information that we will submit to the Office of Management and Budget (OMB) for review and approval. The information collection request (ICR) concerns the paperwork requirements in the regulations under 30 CFR 250, Subpart K, Oil and Gas Production Rates.

DATE: Submit written comments by March 17, 2008.

ADDRESSES: You may submit comments by any of the following methods listed below.

• Electronically: go to http://www.regulations.gov, select “Minerals Management Service” from the agency drop-down menu, then click “submit.” In the Docket ID column, select MMS-2007-OMM-0078 to submit public comments and to view supporting and related materials available. Information on using Regulations.gov, including instructions for accessing documents, submitting comments, and viewing the docket after the close of the comment period, is available through the site's “User Tips” link. All comments submitted will be published and posted to the docket after the closing period.

• Mail or hand-carry comments to the Department of the Interior; Minerals Management Service; Attention: Cheryl Blundon; 381 Elden Street, MS-4024; Herndon, Virginia 20170-4817. Please reference “Information Collection 1010-0041” in your comments.

FOR FURTHER INFORMATION CONTACT: Cheryl Blundon, Regulations and Standards Branch at (703) 787-1607. You may also contact Cheryl Blundon to obtain a copy, at no cost, of the regulations and the forms that require the subject collection of information.

SUPPLEMENTARY INFORMATION:

Title: 30 CFR Part 250, Subpart K, Oil and Gas Production Rates.

Form(s): MMS-126, MMS-127, MMS-128, and MMS-140.

OMB Control Number: 1010-0041.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 5(a) of the OCS Lands Act requires the Secretary to prescribe rules and regulations “to provide for the prevention of waste, and conservation of the natural resources of the Outer Continental Shelf, and the protection of correlative rights therein” and to include provisions “for the prompt and efficient exploration and development of a lease area.”

Section 1334(g)(2) states “* * * the lessee shall produce such oil or gas, or both, at rates * * * to assure the maximum rate of production which may be sustained without loss of ultimate recovery of oil or gas, or both, under sound engineering and economic principles, and which is safe for the duration of the activity covered by the approved plan.”

These authorities and responsibilities are among those delegated to the Minerals Management Service (MMS). The regulations at 30 CFR 250, subpart K, concern oil and gas production rates, and are the subject of this collection.

In addition, MMS also issues various Notices to Lessees (NTLs) and Operators to clarify and provide additional guidance on some aspects of the regulations, as well as various forms to capture the data and information. The current subpart K regulations specify the use of forms MMS-126 (Well Potential Test Report), MMS-127 (Sensitive Reservoir Information Report), MMS-128 (Semiannual Well Test Report), and MMS-140 (Bottomhole Pressure Survey Report).

The forms and their purposes are:

Form MMS-126, Well Potential Test Report

The MMS uses this information for various environmental, reservoir, reserves, and conservation analyses, including the determination of maximum production rates (MPRs) when necessary for certain oil and gas completions.

Form MMS-127, Sensitive Reservoir Information Report

The MMS uses this information to determine whether a rate-sensitive reservoir is being prudently developed.

Form MMS-128, Semiannual Well Test Report

The MMS uses this information to evaluate the results of well tests to determine if reservoirs are being depleted in a manner that will lead to the greatest ultimate recovery of hydrocarbons.

Form MMS-140, Bottomhole Pressure Survey Report

The MMS uses the information in our efforts to conserve natural resources, prevent waste, and protect correlative rights, including the Government's royalty interest.

We will protect information from respondents considered proprietary under the Freedom of Information Act (5 U.S.C. 552) and its implementing regulations (43 CFR part 2) and under regulations at 30 CFR 250.197, “Data and information to be made available to the public or for limited use.” No items of a sensitive nature are collected. Responses are required to obtain or retain benefits.

Frequency: On occasion, monthly, semi-annually, annually and as a result of situations encountered.

Estimated Number and Description of Respondents: Approximately 130 Federal OCS oil and gas lessees.

Estimated Reporting and Recordkeeping “Hour” Burden: The currently approved annual reporting burdens totaled for the consolidated collection is 43,065 hours. The following chart details the individual components and respective hour burden estimates of this ICR. In calculating the burdens, we assumed that respondents perform certain requirements in the normal course of their activities. We consider these to be usual and customary and took that into account in estimating the burden.

Citation 30 CFR 250 Subpart K and NTL(s) | Requirement | Hour burden: Fee burden
1101(b), (f) | Request approval to produce within 500 feet of a lease line. | 5 $3,300 fee
1101(c), (f) | Request approval to produce gas cap of a sensitive reservoir | 12 $4,200 fee
1102 | Submit form MMS-126 | 0.2
| Submit form MMS-127 and appropriate supporting information | 1.5
| Submit form MMS-128 | 0.5-3
1102(a)(5) | Submit alternative plan for overproduction status—MMS is not currently collecting this information.
1102(b)(6) | Request extension of time to submit results of semiannual well test | 0.5
1103(a) | Request approval of test periods of less than 4 hours and pretest stabilization periods of less than 6 hours | 0.5
1103(c) | Provide advance notice of time and date of well tests | 0.5
1104(c) | Submit results of all static bottomhole pressure surveys obtained by lessee. Information is submitted on form MMS-140 in the Gulf of Mexico Region | 1
1105(a), (b) | Request special approval to flare or vent oil-well gas | 0.5
1105(c) | Request approval to burn produced liquid hydrocarbons | 0.5
1105(f) | Submit monthly reports of flared or vented gas containing H2S | 2
1106 | Submit application to commingle hydrocarbons produced from multiple reservoirs and inform other lessees having an interest | 6 $4,900 fee
1107(b) | Submit proposed plan for enhanced recovery operations | 12
1107(c) | Submit periodic reports of volumes of oil, gas, or other substances injected, produced, or reproduced | 2
1100-1107 | General departure or alternative compliance requests not specifically covered elsewhere in subpart K, including bottomhole pressure survey waivers and reservoir reclassification requests | 1 6
Reporting Subtotal
1105(d), (e) | Maintain records for 2 years detailing gas flaring or venting | 13
1105(d), (e) | Maintain records for 2 years detailing liquid hydrocarbon burning | 0.5

Estimated Reporting and Recordkeeping “Non-Hour Cost” Burden: We have identified three non-hour cost burdens for this collection (see table above). Section 250.1101(f) requires a fee for a gas cap production request. Section 250.1101(f) requires a fee to produce within 500 feet of a lease line request. Section 250.1106 requires a fee for a downhole commingling request. We have not identified any other “non-hour cost” burdens associated with this collection of information.

Public Disclosure Statement: The PRA (44 U.S.C. 3501,et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * * ”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedure: Before including your address, phone number, email address, or other personal identifying information in your comment, you should be aware that your entire comment—including your personal identifying information—may be made publicly available at any time. While you can ask us in your comment to withhold your personal identifying information from public review, we cannot guarantee that we will be able to do so.

MMS Information Collection Clearance Officer: Arlene Bajusz, (202) 208-7744.

Dated: December 21, 2007.
E.P. Danenberger,
Chief, Office of Offshore Regulatory Programs.

[FR Doc. E8-616 Filed 1-14-08; 8:45 am]

BILLING CODE 4310-MR-P